DEPARTMENT OF JUSTICE

Drug Enforcement Administration

Importation of Controlled Substances; Notice of Withdrawal of Application

As set forth in the Federal Register (FR Doc. 01-8551) Vol. 66, No. 67 at page 18309, dated March 29, 2001, Chirex Technology Center, Inc., DBA Chirex Cauldron, which has changed its name to Rhodia Chirex America, 383 Phoenixville Pike, Malvern, Pennsylvania 19355, made application by renewal to the Drug Enforcement Administration (DEA) to be registered as an importer of phenylacetone (8501), a basic class of controlled substance listed in Schedule II.

By letter dated May 30, 2002, Rhodia Chirex America requested that their application to import phenylacetone be withdrawn. Therefore, Rhodia Chirex America's application to import phenylacetone is hereby withdrawn.

Dated: June 14, 2002.
Laura M. Nagel,
Deputy Assistant Administrator, Office of Diversion Control, Drug Enforcement Administration.

[FR Doc. 02-16286 Filed 6-26-02; 8:45 am]

BILLING CODE 4410-09-M